DEPARTMENT OF COMMERCE

International Trade Administration

[A-533-820, A-560-812, A-570-865, A-583-835, A-549-817, A-823-811, C-533-821, C-560-813, C-549-818]

Certain Hot-Rolled Carbon Steel Flat Products From India, Indonesia, the People's Republic of China, Taiwan, Thailand, and Ukraine: Continuation of Antidumping and Countervailing Duty Orders

AGENCY: Enforcement and Compliance, formerly Import Administration, International Trade Administration, Department of Commerce.

SUMMARY: The Department of Commerce (the Department) has determined that revocation of the antidumping duty orders on certain hot-rolled carbon steel flat products from India, Indonesia, the People's Republic of China (PRC), Taiwan, Thailand, and Ukraine would likely lead to continuation or recurrence of dumping, and that revocation of the countervailing duty orders on certain hot-rolled carbon steel flat products from India, Indonesia, and Thailand would likely lead to continuation or recurrence of a countervailable subsidy. The U.S. International Trade Commission (USITC) has also determined that revocation of these AD and CVD orders would likely lead to a continuation or recurrence of material injury to an industry in the United States. Therefore, the Department is publishing a notice of continuation of these antidumping and countervailing duty orders.

DATES: Effective Date: February 7, 2014.

FOR FURTHER INFORMATION CONTACT: Deborah Scott or Robert James (AD), or Eric Greynolds or Hilary Sadler (CVD), AD/CVD Operations, Enforcement and Compliance, International Trade Administration, U.S. Department of Commerce, 14th Street and Constitution Avenue NW., Washington, DC 20230; telephone: (202) 482-2657, (202) 482-0649, (202) 482-6071, or (202) 482-4340, respectively.

SUPPLEMENTARY INFORMATION:

Background

On November 5, 2012, the Department initiated the second five-year (“sunset”) reviews of the antidumping duty orders on certain hot-rolled carbon steel flat products from India, Indonesia, the PRC, Taiwan, Thailand, and Ukraine and the second sunset reviews of the countervailing duty orders on certain hot-rolled carbon steel flat products from India, Indonesia, and Thailand, pursuant to section 751(c) and 752 of the Tariff Act of 1930, as amended (the Act).¹ As a result of its reviews, the Department found that revocation of these antidumping duty orders would likely lead to continuation or recurrence of dumping and that revocation of these countervailing duty orders would likely lead to continuation or recurrence of countervailable subsidies, and notified the USITC of the magnitude of the margins of dumping and the subsidy rates likely to prevail should the orders be revoked.²

¹ See Initiation of Five-Year (“Sunset”) Review, 77 FR 66439 (November 5, 2012).

² See Certain Hot-Rolled Carbon Steel Flat Products from India, Indonesia, the People's Republic of China, Taiwan, Thailand, and Ukraine; Final Results of the Expedited Second Sunset Reviews of the Antidumping Duty Orders, 78 FR 15703 (March 12, 2013) and Certain Hot-Rolled Carbon Steel Flat Products From India, Indonesia, and Thailand: Final Results of Expedited Sunset Reviews, 78 FR 16252 (March 14, 2013).

On January 22, 2014, the USITC published its determination, pursuant to section 751(c)(1) and section 752(a) of the Act, that revocation of the antidumping duty orders on certain hot-rolled carbon steel flat products from India, Indonesia, the PRC, Taiwan, Thailand, and Ukraine and the countervailing duty orders on certain hot-rolled carbon steel flat products from India, Indonesia, and Thailand would likely lead to a continuation or recurrence of material injury to an industry in the United States within a reasonably foreseeable time.³

³ See Hot-Rolled Steel Products From China, India, Indonesia, Taiwan, Thailand, and Ukraine; Determination, 79 FR 3622 (January 22, 2014); see also USITC Publication 4445 (January 2014), entitled Hot-Rolled Steel Products from China, India, Indonesia, Taiwan, Thailand, and Ukraine (Inv. Nos. 701-TA-405, 406, & 408 and 731-TA-899-901 & 906-908 (Second Review)).

Scope of the Orders

The products covered by the antidumping and countervailing duty orders are certain hot-rolled carbon steel flat products of a rectangular shape, of a width of 0.5 inch or greater, neither clad, plated, nor coated with metal and whether or not painted, varnished, or coated with plastics or other non-metallic substances, in coils (whether or not in successively superimposed layers), regardless of thickness, and in straight lengths of a thickness of less than 4.75 mm and of a width measuring at least 10 times the thickness. For the full scope language, see the antidumping and countervailing duty orders.⁴ The merchandise is currently classified under the item numbers of the Harmonized Tariff Schedule of the United States (HTSUS) listed in the scope of each order. Although the HTSUS item numbers are provided for convenience and customs purposes, the written description of the scope of the antidumping and countervailing duty orders remains dispositive.

⁴ See Notice of Amended Final Antidumping Duty Determination of Sales at Less Than Fair Value and Antidumping Duty Order: Certain Hot-Rolled Carbon Steel Flat Products From India, 66 FR 60194 (December 3, 2001); Antidumping Duty Order: Certain Hot-Rolled Carbon Steel Flat Products From Indonesia, 66 FR 60192 (December 3, 2001); Notice of the Antidumping Duty Order: Certain Hot-Rolled Carbon Steel Flat Products From the People's Republic of China, 66 FR 59561 (November 29, 2001); Notice of Antidumping Duty Order; Certain Hot-Rolled Carbon Steel Flat Products From Taiwan, 66 FR 59563 (November 29, 2001); Antidumping Duty Order: Certain Hot-Rolled Carbon Steel Flat Products From Thailand, 66 FR 59562 (November 29, 2001); Antidumping Duty Order: Certain Hot-Rolled Carbon Steel Flat Products From Ukraine, 66 FR 59559 (November 29, 2001); Notice of Amended Final Determination and Notice of Countervailing Duty Orders: Certain Hot-Rolled Carbon Steel Flat Products From India and Indonesia, 66 FR 60198 (December 3, 2001); and Notice of Countervailing Duty Order: Certain Hot-Rolled Carbon Steel Flat Products From Thailand, 66 FR 60197 (December 3, 2001).

Continuation of the Orders

As a result of the determinations by the Department and the USITC that revocation of these antidumping and countervailing duty orders would likely lead to continuation or recurrence of dumping and a countervailable subsidy, and material injury to an industry in the United States, pursuant to section 751(c) and section 751(d)(2) of the Act, the Department hereby orders the continuation of the antidumping duty orders on certain hot-rolled carbon steel flat products from India, Indonesia, the PRC, Taiwan, Thailand, and Ukraine and the continuation of the countervailing duty orders on certain hot-rolled carbon steel flat products from India, Indonesia, and Thailand.

U.S. Customs and Border Protection will continue to collect cash deposits at the rates in effect at the time of entry for all imports of subject merchandise. The effective date of the continuation of these orders will be the date of publication in the Federal Register of this notice of continuation. Pursuant to section 751(c)(2) of the Act, the Department intends to initiate the next five-year reviews of these orders not later than 30 days prior to the fifth anniversary of the effective date of continuation.

These five-year (sunset) reviews and this notice are in accordance with section 751(c) of the Act and published pursuant to section 777(i)(1) of the Act and 19 CFR 351.218(f)(4).

Dated: January 29, 2014.
Paul Piquado,
Assistant Secretary for Enforcement and Compliance.

[FR Doc. 2014-02696 Filed 2-6-14; 8:45 am]

BILLING CODE 3510-DS-P